DEPARTMENT OF HOMELAND SECURITY

Federal Emergency Management Agency

[Docket ID: FEMA-2016-0006; OMB No. 1660-0006]

Agency Information Collection Activities: Submission for OMB Review; Comment Request; National Flood Insurance Program Policy Forms

AGENCY: Federal Emergency Management Agency, DHS.

ACTION: Notice.

SUMMARY: The Federal Emergency Management Agency (FEMA) will submit the information collection abstracted below to the Office of Management and Budget for review and clearance in accordance with the requirements of the Paperwork Reduction Act of 1995. The submission will describe the nature of the information collection, the categories of respondents, the estimated burden (i.e., the time, effort and resources used by respondents to respond) and cost, and the actual data collection instruments FEMA will use.

DATES: Comments must be submitted on or before December 23, 2016.

ADDRESSES: Submit written comments on the proposed information collection to the Office of Information and Regulatory Affairs, Office of Management and Budget. Comments should be addressed to the Desk Officer for the Department of Homeland Security, Federal Emergency Management Agency, and sent via electronic mail to oira.submission@omb.eop.gov.

FOR FURTHER INFORMATION CONTACT: Requests for additional information or copies of the information collection should be made to Director, Records Management Division, 500 C Street SW., Washington, DC 20472-3100, or email address FEMA-Information-Collections-Management@fema.dhs.gov.

SUPPLEMENTARY INFORMATION: This proposed information collection previously published in the Federal Register on March 27, 2016 at 81 FR 14459 with a 60 day public comment period. No comments were received. The purpose of this notice is to notify the public that FEMA will submit the information collection abstracted below to the Office of Management and Budget for review and clearance.

Collection of Information

Title: National Flood Insurance Program Policy Forms.

Type of Information Collection: Revision of a currently approved information collection.

OMB Number: 1660-0006.

Form Titles and Numbers: FEMA Form 086-0-1, Flood Insurance Application; FEMA From 086-0-2, Flood Insurance Cancellation/Nullification Request Form; FEMA Form 086-0-3, Flood Insurance General Change Endorsement; FEMA Form 086-0-4, V-Zone Risk Factor Rating Form and Instructions; FEMA Form 086-0-5, Flood Insurance Preferred Risk Policy and Newly Mapped Application.

Abstract: In order to provide for the availability of policies for flood insurance, policies are marketed through the facilities of licensed insurance agents or brokers in the various States. Applications from agents or brokers are forwarded to a servicing company designated as fiscal agent by the Federal Insurance Administration. Upon receipt and examination of the application and required premium, the servicing company issues the appropriate Federal flood insurance policy.

Affected Public: Individuals or households; State, local or Tribal Government; Business or other for profit; Not-for-profit institutions; and Farms.

Estimated Number of Respondents: 601,067.

Estimated Total Annual Burden Hours: 91,016 hours.

Estimated Cost: The cost to respondents is $6,500 for engineer or architect services.

Dated: November 17, 2016.
Richard W. Mattison,
Records Management Program Chief, Mission Support Bureau, Federal Emergency Management Agency, Department of Homeland Security.

[FR Doc. 2016-28137 Filed 11-22-16; 8:45 am]

BILLING CODE 9110-11-P